SECURITIES AND EXCHANGE COMMISSION

Submission for OMB Review; Comment Request

Upon Written Request, Copies Available From: Securities and Exchange Commission, Office of Filings and Information Services, Washington, DC 20549.

Extension:

Form SB-1; OMB Control No. 3235-0423; SEC File No. 270-374.

Notice is hereby given that pursuant to the Paperwork Reduction Act of 1995 (44 U.S.C. 3501 et seq.) the Securities and Exchange Commission (“Commission”) has submitted to the Office of Management and Budget a request for extension of the previously approved collection of information discussed below.

Small business issuers use Form SB-1 (17 CFR 239.9), as defined in Rule 405 (17 CFR 230.405) of the Securities Act of 1933 (“Securities Act”) (15 U.S.C. 77a et seq.), to register up to $10 million of securities to be sold for cash, if they have not registered more than $10 million in securities offerings in any continuous 12-month period, including the transaction being registered. The information to be collected is intended to ensure the adequacy of information available to investors in the registration of securities and assures public availability of the information. The information provided is mandatory. All information provided to the Commission is available to the public for review. Approximately 17 respondents file Form SB-1 annually at an estimated 708 hours per response for a total annual burden of 12,036 hours. We further estimate that 25% of the total burden (3,009 hours) is prepared by the company and the remaining 75% of the total burden hours is prepared by outside counsel retained by the company.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to David_Rostker@omb.eop.gov; and (ii) R. Corey Booth, Director/Chief Information Officer, Securities and Exchange Commission, C/O Shirley Martinson 6432 General Green Way, Alexandria, Virginia 22312; or send an e-mail to: PRA_Mailbox@sec.gov. Comments must be submitted to OMB within 30 days of this notice.

Dated: September 11, 2006.
Nancy M. Morris,
Secretary.

[FR Doc. E6-15458 Filed 9-15-06; 8:45 am]

BILLING CODE 8010-01-P